DEPARTMENT OF ENERGY

Federal Energy Regulatory Commission

[Docket No. RP08-29-000]

The Rockies Express Shippers, Complainant, v. Northern Natural Gas Company, Respondent; Notice of Complaint

October 25, 2007.

Take notice that on October 24, 2007, the Rockies Express Shipper (REX Shippers), pursuant to section 206 of the Commission's Rules of Practice and Procedures, 18 CFR 385.206, filed a complaint against Northern Natural Gas Company (Northern) alleging that Northern (i) failed to post the availability of receipt point capacity at the Rockies Express Pipeline (REX) Receipt Point on Northern, (ii) unlawfully tied access to REX Receipt Point capacity to new backhaul service which Northern was not authorized to offer, (iii) unlawfully discriminated against the REX Receipt Point and in favor of receipts of gas from Trailblazer, and (iv) imposed an unjust and unreasonable charge for backhaul service. As a remedy, inter alia the REX Shippers request the Commission to void Northern's previous open season and order Northern to conduct a new open season in compliance with Northern's Tariff and Commission regulations.

The REX Shippers certify that a copy of the complaint has been served on the contacts for Northern as listed on the Commission's list of Corporate Officials.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainants.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. Eastern Time on November 14, 2007.

Kimberly D. Bose,
Secretary.

[FR Doc. E7-21482 Filed 10-31-07; 8:45 am]

BILLING CODE 6717-01-P